INTERNATIONAL TRADE COMMISSION

[Inv. No. 337-TA-520]

In the Matter of Certain Digital Image Storage and Retrieval Devices; Notice of a Commission Determination Not To Review an Initial Determination Terminating the Investigation on the Basis of a Settlement Agreement

AGENCY: U.S. International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Timothy P. Monaghan, Esq., Office of the General Counsel, U.S. International Trade Commission, 500 E Street, SW., Washington, DC 20436, telephone (202) 205-3152. Copies of the public version of the ID and all nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission instituted this investigation on August 16, 2004, based on a complaint filed on behalf of Ampex Corporation, of Redwood City, California (“Ampex”). 69 FR 50400 (Aug 16, 2004). The complaint alleged violations of section 337 of the Tariff Act of 1930 in the importation into the United States, sale for importation, and sale within the United States after importation of certain digital image storage and retrieval devices by reason of infringement of certain claims of U.S. Patent No. 4,821,121. The respondent named in the notice of investigation is the Sony Corporation of Tokyo, Japan (“Sony”).

On October 1, 2004, Ampex and Sony entered into a settlement agreement, and on November 24, 2004, Ampex and Sony filed a joint motion to terminate the investigation pursuant to 19 CFR 210.21 based on the settlement agreement. The Commission investigative attorney filed a response in support of the joint motion.

On December 9, 2004, the ALJ issued the subject ID (Order No. 6) granting the joint motion of complainant Ampex and respondent Sony to terminate the investigation on the basis of a settlement agreement.

The authority for the Commission's determination is contained in section 337 of the Tariff Act of 1930, as amended (19 U.S.C. 1337), and in section 210.42 of the Commission's Rules of Practice and Procedure (19 CFR 210.42).

Issued: December 30, 2004.
By order of the Commission.
Marilyn R. Abbott,
Secretary.

[FR Doc. 05-252 Filed 1-5-05; 8:45 am]

BILLING CODE 7020-02-P